DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Peititions Received by EDA for Certification of Eligibility To Apply for Trade Adjustment
[2/19/2009 through 3/31/2009]
Firm | Address | Date accepted for filing | Products
Scentations, Inc | 913 Plaza Drive, Pocahontas, AR 72455 | 3/30/2009 | Home accent products: Scented paraffin candles, potpourri, diffusers/refills, sprays, melts & sachets.
McKee Button Company | 1000 Hershey Ave., P.O. Muscatine, IA 52761 | 3/31/2009 | Plastic buttons, decorative plastic panels used in furniture and interior design, and elastic belts used in adult diapers.
MRA Laboratories, Inc | 15 Print Works Drive, Adams, MA 01220 | 3/31/2009 | Formulated ceramic dielectric materials for multilayer ceramic capacitors, electrode inks for multilayer ceramic capacitors, and prototypes of electronic components.
Hydromotion Inc | 85 East Bridge Street, Spring City, PA 19475 | 2/20/2009 | Fluid swivels, electric swivels, telescoping waterways and position sensing systems.
Citation Corporation Grand Rapids, MI | 3559 Kraft Ave., SE., Grand Rapids, MI 46512 | 2/27/2009 | Precision machined aluminum castings.
Cox Manufacturing Co., Inc | 218 Cline Park Drive, Hildebran, NC 28637 | 3/13/2009 | Chairs, benches, stools, and barstools.
Newell Coach | P.O. Box 511, Miami, OK 74354 | 2/27/2009 | Motor vehicles for business and recreational use.
Dakota Foundry, Inc | 20 North Park Lane, Webster, CO 57274 | 3/16/2009 | Iron (gray and ductile) castings.
SenDec Corporation | 72 Perinton Parkway, Fairport, NY 14450 | 3/16/2009 | Comprehensive electronic manufacturing services (EMS) including: Design for manufacturability, prototyping, PCB (printed circuit board) and electromechanical assembly, test engineering, rework, and supply chain.
St. Jude Packaging Co | 5510 W. 65th Street, Little Rock, AR 72209 | 3/6/2009 | Fully laminated corrugated counter floor displays.
Drives Unlimited, Inc | 12301 Grant St., Suite 150, Thornton, CO 80241 | 2/19/2009 | Hard Disc Drives.
Gem City Engineering Company | 401 E. Leo St., Dayton, OH 45404 | 2/27/2009 | Assembly line machines and electro mechanical machines.
Joseph Machine Company, Inc | 595 Range End Road, Dillsburg, PA 17019 | 3/17/2009 | Designs and manufactures custom fab centers, cutting saws, notch saws, end mills, welders, and corner cleaners.
Tring Corporation | 8991 East Lincoln Way, Orrville, OH 44667 | 3/18/2009 | Fabricated and machined components including metal housings for electrical apparatus and custom equipment.
Cellusuede Products, Inc | 500 N. Madison St., P.O., Rockford, IL 61105 | 3/18/2009 | Flock, including: Rayon, nylon, polyester, polypropylene, acrylic and other synthetic fibers.
The Medalcraft Mint, Inc | 2660 W. Mason St., Green Bay, WI 54303 | 3/19/2009 | Die-struck minted coins, awards, and commemoratives.
Integrity Building Systems, Inc | 2435 Housels Run Road, Milton, PA 17847 | 3/23/2009 | Modular units for single or multi-family dwellings and commercial buildings.
Northeast Manufacturing Co | 35 Spencer Street, Stoneham, MA 02180 | 2/20/2009 | Precision machined metal, plastic parts and mechanical assemblies.
Flores & Foley, Inc | 2015 Capital Drive, Wilmington, NC 28405 | 3/24/2009 | Custom fabrication of construction-related sheet metal accessories from all roof and building-related flashings and metal accessories, as well as specialty metal roofing systems, decorative cupolas and finials, copper and stainless steel fountains and fireplace mantels.
Gonzalez Production Systems, Inc | 1670 East Highwood, Pontiac, MI 48340 | 3/24/2009 | Robots for closure, welding and assembly functions on production lines.
Q-Flex, Inc | 1301 E. Hunter Ave., Santa Ana, CA 92705-4133 | 3/4/2009 | Designs and manufactures circuit boards for the interconnect industry.
Peter Paul Electronics Co., Inc | 480 John Downey Drive, New Britian, CT 06050-1180 | 3/27/2009 | Custom valves as well as a large variety of valves.
Indepak, Inc | 2136 NE 194th Ave., Portland, OR 97230 | 3/27/2009 | Thermoformed plastic products such as packaging. dental trays and other plastic products.
Arlowe Corporation d/b/a ETM | 21 Concord Street, Wilmington, MA 01887 | 3/30/2009 | Cabinets and enclosures for some of the world's leading equipment manufacturers.
Drapery Supply Company, Inc | 5570 West 60th Avenue, Arvada, CO 80003 | 3/30/2009 | Window coverings.
Molded Fiber Glass Tray Company | 6175 U.S. Highway 6, Linesville, PA 16424 | 3/25/2009 | Plastic trays, bins, and other containers for the food service and candy industries.
New Archery Products Corp | 7500 Industrial Drive, Forest Park, IL 60130 | 3/25/2009 | Archery accessories and products.
Spyraflo, Inc | 404 Dividend Drive, Peachtree City, GA 30269 | 3/27/2009 | Self-clinching, self-aligning bearings.
Royal Industries International, Inc | 225 25th Street, Brooklyn, NY 11232 | 3/30/2009 | Vinyl promotional products such as card cases, clipboards, portfolios, pocket planners and other vinyl type of items that can be manufactured and imprinted with a corporate logo.
Marengo Valve and Foundry, LLC | 123 West Railroad St., Marengo, IL 60152 | 3/31/2009 | Ductile iron, gray iron and steel castings of valves, rail track, agricultural components and replacement parts.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: April 1, 2009.
William P. Kittredge,
Program Officer for TAA.

[FR Doc. E9-7784 Filed 4-6-09; 8:45 am]

BILLING CODE 3510-24-P